DEPARTMENT OF VETERANS AFFAIRS

[OMB Control No. 2900-0539]

Agency Information Collection Activity Under OMB Review: Application for Supplemental Service-Disabled Veterans Insurance

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0539.

FOR FURTHER INFORMATION CONTACT: Danny S. Green, (202) 421-1354 or email Danny.Green2@va.gov. Please refer to “OMB Control No. 2900-0539” in any correspondence.

SUPPLEMENTARY INFORMATION:

Authority: Public Law 104-13; 44 U.S.C. 3501-3521.

Title: Application for Supplemental Service-Disabled Veterans Insurance, VA Forms 29-0188 and 29-0189.

OMB Control Number: 2900-0539.

Type of Review: Extension of a currently approved collection.

Abstract: VA Forms 29-0188 and 29-0189 are used by eligible insureds to apply for Supplemental Service-Disabled Veterans Insurance. Collection of the required information is required to implement the provisions of Public Law 102-568 which expanded the insurance coverage available under 38 U.S.C. Section 1922.

An agency may not conduct or sponsor, and a person is not required to respond to a collection of information unless it displays a currently valid OMB control number. The Federal Register Notice with a 60-day comment period soliciting comments on this collection of information was published at 85 FR on March 30, 2020, pages 17620 and 17621.

Affected Public: Individuals and Households.

Estimated Annual Burden: 3,333 hours.

Estimated Average Burden per Respondent: 20 minutes.

Frequency of Response: On Occasion.

Estimated Number of Respondents: 10,000.

By direction of the Secretary.
Danny S. Green,
VA Clearance Officer, Office of Quality, Performance and Risk, Department of Veterans Affairs.

[FR Doc. 2020-14821 Filed 7-9-20; 8:45 am]

BILLING CODE 8320-01-P